SECURITIES AND EXCHANGE COMMISSION

Sunshine Act Meetings

Notice is hereby given, pursuant to the provisions of the Government in the Sunshine Act, Pub. L. 94-409, that the Securities and Exchange Commission will hold the following meetings during the week of January 23, 2006: Closed Meetings will be held on Thursday, January 26, 2006 at 9 a.m. and on January 26, 2006 at 2 p.m.

Commissioners and certain staff members who have an interest in the matter will attend the Closed Meeting on January 26, 2006 at 9 a.m. Commissioners, Counsel to the Commissioners, the Secretary to the Commission, and recording secretaries will attend the Closed Meeting on January 26, 2006 at 2 p.m. Certain staff members who have an interest in the matters may also be present.

The General Counsel of the Commission, or his designee, has certified that, in his opinion, one or more of the exemptions set forth in 5 U.S.C. 552b(c), (3), (5), (7), (8), (9)(B), and (10) and 17 CFR 200.402(a), (3), (5), (7), (8), 9(ii) and (10) permit consideration of the scheduled matters at the Closed Meetings.

Commissioner Glassman, as duty officer, voted to consider the items listed for the closed meetings in closed sessions and that no earlier notice thereof was possible.

The subject matter of the Closed Meeting scheduled for 9 a.m. on Thursday, January 26, 2006 will be:

Institution and settlement of an injunctive action.

The subject matter of the Closed Meeting scheduled for 2 p.m. on Thursday, January 26, 2006 will be:

Formal orders of investigations;

Institution and settlement of injunctive actions;

Institution and settlement of administrative proceedings of an enforcement nature;

Opinion; and

Amici consideration.

At times, changes in Commission priorities require alterations in the scheduling of meeting items.

For further information and to ascertain what, if any, matters have been added, deleted or postponed, please contact:

The Office of the Secretary at (202) 551-5400.

Dated: January 20, 2006.
J. Lynn Taylor,
Assistant Secretary.

[FR Doc. 06-707 Filed 1-20-06; 12:52 pm]

BILLING CODE 8010-01-P